DEPARTMENT OF TRANSPORTATION

Federal Highway Administration

Notice of Final Federal Agency Actions on Proposed Highway in Ohio

AGENCY: Federal Highway Administration (FHWA), DOT.

ACTION: Notice of Limitation on Claims for Judicial Review of Actions by FHWA, Army Corps of Engineers (USACE), and Other Federal Agencies.

SUMMARY: This notice announces actions taken by the FHWA, USACE, and other Federal agencies that are final within the meaning of 23 U.S.C. 139(l)(1). The actions relate to a proposed highway project, U.S. Route 33, from Haydenville in Hocking County to Doanville (just west of New Floodwood) in Athens County in the State of Ohio. Those actions grant licenses, permits, and approvals for the project.

DATES: By this notice, the FHWA is advising the public of final agency actions subject to 23 U.S.C. 139(l)(1). A claim seeking judicial review of the Federal agency actions on the highway project will be barred unless the claim is filed on or before November 3, 2008. If the Federal law that authorizes judicial review of a claim provides a time period of less than 180 days for filing such claim, then that shorter time period still applies.

FOR FURTHER INFORMATION CONTACT: For FHWA: Mr. David Snyder, Environmental Program Manager, Federal Highway Administration, 200 North High Street, Columbus, Ohio, 43215; Telephone: (614) 280-6852; e-mail: David.Snyder@fhwa.dot.gov; FHWA Ohio Division Office's normal business hours are 8 a.m. to 4:30 p.m. (eastern time) Monday thru Friday. For USACE: Ms. Deborah Wegmann, Program Manager, Ohio Regulatory Transportation Office (ORTO), 3990 East Broad Street, Columbus, Ohio 43218; telephone (614) 692-4660; E-mail deborah.wegmann@lrh01.usace.army.mil. USACE-ORTO's normal business hours are 8 a.m. to 5 p.m. eastern time Monday thru Friday. For the Ohio Department of Transportation: Mr. Timothy Hill, Office of Environmental Services Administrator, Ohio Department of Transportation, 1980 West Broad Street, Columbus, Ohio, 43223; Telephone: (614) 644-0377; E-mail tim.hill@dot.state.oh.us. ODOT's normal business hours are 7:30 a.m. to 4 p.m. (eastern time) Monday thru Friday.

SUPPLEMENTARY INFORMATION: On February 1, 2006, the FHWA published a “Notice of Final Federal Agency Actions on Proposed Highway in Ohio” in the Federal Register at [DCOID: fr01fe06-175] for the following highway project: U.S. Route 33, from Haydenville in Hocking County to Doanville in Athens County in the State of Ohio. The project will be a 9 mile long, four-lane divided controlled access highway. It will begin northwest of Nelsonville adjacent to Haydenville. It will then proceed in a northeasterly direction north of Nelsonville and south of Buchtel. It will end at Doanville which is located just northwest of New Floodwood, tying back into the existing 4-lane divided U.S. Route 33 approximately 1.2 miles east of SR691. The proposed highway will be on new alignment. The general purpose of the project is to provide system linkage, improve level of service and facility deficiencies including providing limited access and separating local and through traffic, improve safety, and enhance economic development opportunities.

The FHWA project reference number is FHWA-OH-EIS-04-01-F. A Final Environmental Impact Statement (FEIS) was approved by FHWA on June 30, 2005. A Record of Decision was issued by FHWA on August 19, 2005.

Notice is hereby given that, subsequent to the earlier FHWA notice, the USACE has taken final agency actions within the meaning of 23 U.S.C.139(l)(1) by issuing permits and approvals for the highway project. The actions by the USACE, related final actions by other Federal agencies, and the laws under which such actions were taken, are described in the USACE decisions and its project records, referenced as USACE Permit Number 200301193. That information is available by contacting the USACE at the address provided above.

Information about the project and project records also are available from the FHWA and the ODOT at the addresses provided above. The FHWA FEIS and ROD and the USACE permit can be viewed at the Nelsonville Public Library, the Athens and Hocking County Engineer's offices, the Athens and Hocking County Commissioners' offices, the Nelsonville City Manager's office, and the Hocking College President's office.

This notice applies to all Federal agency decisions as of the issuance date of this notice and all laws under which such actions were taken, including but not limited to:

1. Wetlands and Water Resources: Clean Water Act, 33 U.S.C. 1251-1377 (Section 404, Section 401, Section 319);

(Catalog of Federal Domestic Assistance Program Number 20.205, Highway Planning and Construction. The regulations implementing Executive Order 12372 regarding intergovernmental consultation on Federal programs and activities apply to this program)

Authority: 23 U.S.C.139(l)(1).

Issued on: April 29, 2008.
Dennis Decker,
Division Administrator, Columbus, Ohio.

[FR Doc. E8-9880 Filed 5-5-08; 8:45 am]

BILLING CODE 4910-RY-P